DEPARTMENT OF AGRICULTURE

Forest Service

Mineral County Resource Advisory Committee

AGENCY: Forest Service, USDA.

ACTION: Notice of meeting.

SUMMARY: The Mineral County Resource Advisory Committee (RAC) will meet in Superior, MT. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: http://cloudapps-usda-gov.force.com/FSSRS/RAC_Page?id=001t0000002JcvCAAS.

DATES: The meeting will be held on Wednesday, January 29, 2020, at 6:00 p.m. and Wednesday, February 5, 2020, at 6:00 p.m.

All RAC meetings are subject to cancellation. For status of the meeting prior to attendance, please contact the person listed under For Further Information Contact.

ADDRESSES: The meeting will be held at the Superior Ranger District, 209 W Riverside Ave., Superior, MT.

Written comments may be submitted as described under Supplementary Information. All comments, including names and addresses when provided, are placed in the record and are available for public inspection and copying. The public may inspect comments received at the Superior Ranger District.

FOR FURTHER INFORMATION CONTACT: Carole Johnson, DFO, by phone at 406-822-4233 or via email at carole.johnson@usda.gov or Racheal Koke at 406-822-3930 or via email at racheal.koke@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meetings are to:

1. Hear proposal presentations

2. Approve meeting minutes

3. Discuss, recommend, and approve new Title II projects;

The meeting is open to the public. The agenda will include time for people to make oral statements of three minutes or less. Individuals wishing to make an oral statement should request in writing by Monday, January 27, 2020, to be scheduled on the agenda. Anyone who would like to bring related matters to the attention of the committee may file written statements with the committee staff before or after the meeting. Written comments and requests for time for oral comments must be sent to Racheal Koke, PO Box 460, Superior, MT 59872; or by email to racheal.koke@usda.gov.

Meeting Accommodations: If you are a person requiring reasonable accommodation, please make requests in advance for sign language interpreting, assistive listening devices, or other reasonable accommodation. For access to the facility or proceedings, please contact the person listed in the section titled For Further Information Contact. All reasonable accommodation requests are managed on a case by case basis.

Dated: January 13, 2020.
Cikena Reid,
USDA, Committee Management Officer.

[FR Doc. 2020-00618 Filed 1-15-20; 8:45 am]

BILLING CODE 3411-15-P